DEPARTMENT OF HEALTH AND HUMAN SERVICES

Administration for Children and Families

Notice of Correction for Services to Unaccompanied Alien Children Services (UAC) Program To Provide Temporary Shelter Care and Other Related Services to Children in Office of Refugee Resettlement (ORR) Custody

AGENCY: Office of Refugee Resettlement (ORR), Administration for Children and Families, ACF, DHHS.

ACTION: Notice of Correction.

Funding Opportunity Title: Services to Unaccompanied Alien Children.

Funding Opportunity Number: HHS-2005-ACF-ORR-ZU-0007.

SUMMARY: This notice is to inform interested parties of a clarification made to Services to Unaccompanied Alien Children funding announcement published on Monday, June 17, 2005. The following clarifications should be noted:

Section I, Group I, Chart I on Page # 32345:

Group I.—Geographic Location

No. 14, Up to 120 suitability assessment cases per applicant (two awards available) $1.9 million (for a total of $3.8 million for this category).

Group II.—Geographic Location

No. 1, Los Angeles, Basic Shelter and/or Group Homes, 24 beds $1.76 million.

Section II. Award Information on Page #32350 stated the following:

“Floor on Amount of Individual Awards: $3,300,000 per budget period.”

Section I, Group I, Chart I on Page #32345 is replaced with:

Group I.—Geographic Location

“No. 14, Up to 120 suitability assessment cases per application (two awards available) $800,000 (for a total of $1.6 million for this category).”

Group II.—Geographic Location

“No. 1, Los Angeles, Basic Shelter and/or Group Homes, 24 beds $1.75 million.”

Section II. Award Information on Page #32350 is replaced with:

“Floor on Amount of Individual Awards: $218,000 per budget period.”

Dated: June 28, 2005.
Nguyen Van Hanh,
Director, Office of Refugee Resettlement.

[FR Doc. 05-13299 Filed 7-5-05; 8:45 am]

BILLING CODE 4184-01-P